DEPARTMENT OF AGRICULTURE

Food Safety and Inspection Service

[Docket No. FSIS-2022-0013]

Salmonella in Not Ready-To-Eat Breaded Stuffed Chicken Products

Correction

In notice document 2024-09393 beginning on page 35033 in the issue of Wednesday, May 1, 2024, the heading is corrected to read as set forth above.

[FR Doc. C1-2024-09393 Filed 5-10-24; 8:45 am]

BILLING CODE 0099-10-D